DEPARTMENT OF ENERGY

Federal Energy Regulatory Commission

Combined Notice of Filings #1

September 29, 2006.

Take notice that the Commission received the following electric corporate filings:

Docket Numbers: EC06-117-000.

Applicants: American Electric Power Service Corporation.

Description: American Electric Power Service Corp on behalf of AEP Texas North Company, and Southwestern Electric Power Co submits amendment to its application for authorization to transfer jurisdictional facilities.

Filed Date: 08/31/2006.

Accession Number: 20060929-0144.

Comment Date: 5 p.m. Eastern Time on Friday, October 13, 2006.

Docket Numbers: EC06-166-000.

Applicants: Legg Mason, Inc.

Description: Legg Mason Inc submits an application for blanket authorization to acquire utility and/or company securities under Section 203 of the FPA and Part 33 of FERC's regulations.

Filed Date: 09/25/2006.

Accession Number: 20060929-0131.

Comment Date: 5 p.m. Eastern Time on Monday, October 16, 2006.

Take notice that the Commission received the following exempt wholesale generator filings:

Docket Numbers: EG06-67-000.

Applicants: Snowflake White Mountain Power, LLC.

Description: Snowflake White Mountain Power, LLC an amendment to its 7/31/06 application.

Filed Date: 09/26/2006.

Accession Number: 20060927-0133.

Comment Date: 5 p.m. Eastern Time on Tuesday, October 17, 2006.

Docket Numbers: EG06-83-000.

Applicants: GSG, LLC.

Description: GSG, LLC submits its notice of self-certification of exempt wholesale generator status.

Filed Date: 09/26/2006.

Accession Number: 20060927-0128.

Comment Date: 5 p.m. Eastern Time on Tuesday, October 17, 2006.

Take notice that the Commission received the following electric rate filings:

Docket Numbers: ER00-3240-006.

Applicants: Oleander Power Project, L.P.

Description: Oleander Power Project, L.P. submits its triennial market power update.

Filed Date: 09/28/2006.

Accession Number: 20060928-5036.

Comment Date: 5 p.m. Eastern Time on Thursday, October 19, 2006.

Docket Numbers: ER03-198-006.

Applicants: Pacific Gas & Electric Company.

Description: Pacific Gas and Electric Co submits a change in status as a result of the execution and California Public Utility Commission approval of a tolling agreement with Duke Energy Marketing America LLC.

Filed Date: 09/26/2006.

Accession Number: 20060928-0061.

Comment Date: 5 p.m. Eastern Time on Tuesday, October 17, 2006.

Docket Numbers: ER03-1207-003.

Applicants: AES Delano, Inc.

Description: AES Delano, Inc submits its triennial market power update and compliance filing in accordance with FERC's order issued 2/9/00.

Filed Date: 09/25/2006.

Accession Number: 20060927-0059.

Comment Date: 5 p.m. Eastern Time on Monday, October 16, 2006.

Docket Numbers: ER04-7-002.

Applicants: Sierra Pacific Energy, LP.

Description: Sierra Pacific Energy, LLP submits its Triennial Market Power Analysis and its Revised Market-Based Tariff to conform with Order 652.

Filed Date: 09/26/2006.

Accession Number: 20060928-0013.

Comment Date: 5 p.m. Eastern Time on Tuesday, October 17, 2006.

Docket Numbers: ER04-230-026; ER01-3155-017; ER01-1385-026; EL01-45-025.

Applicants: New York Independent System Operator, Inc.

Description: New York Independent System Operator, Inc. submits its eighth quarterly report.

Filed Date: 09/15/2006.

Accession Number: 20060915-5029.

Comment Date: 5 p.m. Eastern Time on Friday, October 10, 2006.

Docket Numbers: ER05-560-001.

Applicants: Midwest Independent Transmission System Operator, Inc.

Description: Midwest Independent Transmission System Operator, Inc submits a Seams Operating Agreement with Manitoba Hydro in compliance with the Commission's 3/28/05 Order.

Filed Date: 09/27/2006.

Accession Number: 20060929-0089.

Comment Date: 5 p.m. Eastern Time on Wednesday, October 18, 2006.

Docket Numbers: ER06-185-003.

Applicants: New York Independent System Operator, Inc.

Description: New York Independent System Operator, Inc submits the results of the Real-Time Guarantee Payment Mitigation Test Details for March 2005 pursuant to FERC's 4/7/06 Order.

Filed Date: 09/21/2006.

Accession Number: 20060928-0017.

Comment Date: 5 p.m. Eastern Time on Thursday, October 12, 2006.

Docket Numbers: ER06-884-000.

Applicants: PSI Energy, Inc.

Description: PSI Energy, Inc notifies FERC of the withdrawal of the Cost-Based Formula Rate Agreement for Firm Energy and Capacity with Hoosier Energy Rural Electric Coop that was submitted on 4/24/06.

Filed Date: 09/26/2006.

Accession Number: 20060927-0132.

Comment Date: 5 p.m. Eastern Time on Tuesday, October 17, 2006.

Docket Numbers: ER06-1516-000.

Applicants: Mac Trading, Inc.

Description: Mac Trading, Inc submits a petition for acceptance of FERC Electric Rate Schedule 1, Waivers and Blanket Authority.

Filed Date: 09/25/2006.

Accession Number: 20060927-0060.

Comment Date: 5 p.m. Eastern Time on Monday, October 16, 2006.

Docket Numbers: ER06-1517-000.

Applicants: Wisconsin Power and Light Company.

Description: Wisconsin Power & Light Co submits a request to change rates charged to its partial requirements FERC-jurisdictional customers under FERC Electric Tariff Volume No. 11.

Filed Date: 09/25/2006.

Accession Number: 20060927-0095.

Comment Date: 5 p.m. Eastern Time on Monday, October 16, 2006.

Docket Numbers: ER06-1518-000.

Applicants: Wisconsin Power and Light Company.

Description: Wisconsin Power & Light Co submits a request to change rates charged to its full-requirements FERC-jurisdictional customers under FERC Electric Tariff Volumes 12 and 13.

Filed Date: 09/25/2006.

Accession Number: 20060927-0101.

Comment Date: 5 p.m. Eastern Time on Monday, October 16, 2006.

Docket Numbers: ER06-1519-000.

Applicants: Midwest Independent Transmission System Operator, Inc.

Description: Midwest Independent Transmission System Operator, Inc submits its Interconnection Agreement with Northern States Power Co, City of Hutchinson.

Filed Date: 09/26/2006.

Accession Number: 20060927-0137.

Comment Date: 5 p.m. Eastern Time on Tuesday, October 17, 2006.

Docket Numbers: ER06-1520-000.

Applicants: Westar Energy, Inc.

Description: Westar Energy, Inc submits its First Revised Sheet 15 of the First Revised FPC #6, Operating agreement w/Kansas Gas & Electric Co.

Filed Date: 09/26/2006.

Accession Number: 20060927-0136.

Comment Date: 5 p.m. Eastern Time on Tuesday, October 17, 2006.

Docket Numbers: ER06-1521-000; ER06-1522-000; ER06-1523-000; ER06-1524-000; ER06-1525-000; ER06-1526-000; ER06-1527-000; ER06-1528-000; ER06-1529-000.

Applicants: Bridgeport Energy LLC; Casco Bay Energy Company, LLC; Griffith Energy LLC; LSP Arlington Valley, LLC; LSP Mohave, LLC; LSP Morro Bay, LLC; LSP Moss Landing, LLC; LSP Oakland, LLC; LSP South Bay, LLC.

Description: Bridgeport Energy LLC et al submit certain amendments to revisions to market-based rate tariffs.

Filed Date: 09/21/2006.

Accession Number: 20060927-0127.

Comment Date: 5 p.m. Eastern Time on Thursday, October 12, 2006.

Docket Numbers: ER06-1530-000.

Applicants: Niagara Mohawk Power Corporation.

Description: Niagara Mohawk Power Corp dba National Grid submits a Notice of Cancellation of Rate Schedule 338 with South Glens Falls Energy LLC.

Filed Date: 09/26/2006.

Accession Number: 20060928-0012.

Comment Date: 5 p.m. Eastern Time on Tuesday, October 17, 2006.

Docket Numbers: ER06-1531-000.

Applicants: Great Lakes Energy L.L.C.

Description: Great Lakes Energy, LLC submits a Petition for Acceptance of Initial Tariff, Waivers and Blanket Authority designated as FERC Electric Tariff, Original Volume 1.

Filed Date: 09/26/2006.

Accession Number: 20060928-0015.

Comment Date: 5 p.m. Eastern Time on Tuesday, October 17, 2006.

Docket Numbers: ER06-1532-000.

Applicants: Southern Company Services, Inc.

Description: Southern Co Services Inc, acting as agent Alabama Power Co et al., submits Revision 5 to the Agreement for Network Integration Transmission Service for Alabama Electric Cooperative Inc.

Filed Date: 09/27/2006.

Accession Number: 20060928-0060.

Comment Date: 5 p.m. Eastern Time on Wednesday, October 18, 2006.

Docket Numbers: ER06-1533-000.

Applicants: Southern California Edison Company.

Description: Southern California Edison Co submits a Small Generator Interconnection Agreement and a Service Agreement for Wholesale Distribution Service with San Gabriel Valley Municipal Water District.

Filed Date: 09/27/2006.

Accession Number: 20060928-0059.

Comment Date: 5 p.m. Eastern Time on Wednesday, October 18, 2006.

Docket Numbers: ER06-1534-000.

Applicants: Midwest Independent Transmission System Operator, Inc.

Description: Midwest Independent Transmission System Operator, Inc submits Amended Coordination Agreement with Manitoba Hydro.

Filed Date: 09/27/2006.

Accession Number: 20060928-0058.

Comment Date: 5 p.m. Eastern Time on Wednesday, October 18, 2006.

Docket Numbers: ER06-1535-000.

Applicants: Midwest Independent Transmission System Operator, Inc.

Description: Midwest Independent Transmission System Operator, Inc submits proposed revisions to Attachment L (Credit Policy) and Attachment W (Form of Market Participant Agreement).

Filed Date: 09/27/2006.

Accession Number: 20060929-0087.

Comment Date: 5 p.m. Eastern Time on Wednesday, October 18, 2006.

Docket Numbers: ER06-1536-000.

Applicants: Midwest Independent Transmission System Operator, Inc.

Description: Midwest Independent Transmission Operator, Inc submits an unexecuted Small Generation Interconnection Agreement with Cisco Wind Energy LLC and Great River Energy.

Filed Date: 09/27/2006.

Accession Number: 20060929-0088.

Comment Date: 5 p.m. Eastern Time on Wednesday, October 18, 2006.

Docket Numbers: ER06-1538-000.

Applicants: HLM Energy, Inc.

Description: HLM Energy Inc submits petition for acceptance of initial rate schedule, waivers & blanket authority.

Filed Date: 09/28/2006.

Accession Number: 20060929-0210.

Comment Date: 5 p.m. Eastern Time on Thursday, October 19, 2006.

Docket Numbers: ER06-1541-000.

Applicants: ISO New England Inc.

Description: ISO New England Inc submits an emergency request for a limited and temporary change in a requirement of its financial assurance policies relating to certain requested billing adjustments.

Filed Date: 09/28/2006.

Accession Number: 20060929-0194.

Comment Date: 5 p.m. Eastern Time on Thursday, October 10, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-16529 Filed 10-5-06; 8:45 am]

BILLING CODE 6717-01-P